DEPARTMENT OF THE INTERIOR

National Park Service

[2253-665]

Notice of Inventory Completion: Maxey Museum, Whitman College, Walla Walla, WA

AGENCY: National Park Service, Interior.

ACTION: Notice.

SUMMARY: Maxey Museum has completed an inventory of human remains and associated funerary objects, in consultation with the appropriate Indian tribes, and has determined that there is a cultural affiliation between the human remains and associated funerary objects and present-day Indian tribes. Representatives of any Indian tribe that believes itself to be culturally affiliated with the human remains and associated funerary objects may contact Maxey Museum. Repatriation of the human remains and associated funerary objects to the Indian tribes stated below may occur if no additional claimants come forward.

DATES: Representatives of any Indian tribe that believes it has a cultural affiliation with the human remains and associated funerary objects should contact Maxey Museum at the address below by April 6, 2012.

ADDRESSES: Gary Rollefson, Maxey Museum, Whitman College, 345 Boyer Avenue, Walla Walla, WA 99362, telephone (509) 527-4938.

SUPPLEMENTARY INFORMATION: Notice is here given in accordance with the Native American Graves Protection and Repatriation Act (NAGPRA), 25 U.S.C. 3003, of the completion of an inventory of human remains and associated funerary objects in the possession of Maxey Museum. The human remains and associated funerary objects were removed from the general vicinity of the Snake River and Columbia River in the Columbia River Plateau, in the counties of Walla Walla, Benton, Franklin, and Columbia, WA, and Umatilla, OR.

This notice is published as part of the National Park Service's administrative responsibilities under NAGPRA, 25 U.S.C. 3003(d)(3). The determinations in this notice are the sole responsibility of the museum, institution or Federal agency that has control of the Native American human remains and associated funerary objects. The National Park Service is not responsible for the determinations in this notice.

Consultation

A detailed assessment of the human remains was made by Maxey Museum professional staff in consultation with representatives of the Confederated Tribes and Bands of the Yakama Nation, Washington; Confederated Tribes of the Colville Reservation, Washington; Confederated Tribes of the Umatilla Reservation, Oregon; Confederated Tribes of the Warm Springs Reservation of Oregon; Nez Perce Tribe, Idaho (previously listed as Nez Perce Tribe of Idaho) (hereafter referred to as “The Tribes”); and the Wanapum Band, a non-Federally recognized Indian group (hereafter referred to as “The Indian Group”).

History and Description of the Remains

In the early to middle 20th century, human remains representing, at minimum, six individuals were removed from an unknown location near the confluence of the Columbia River and Snake River in the counties of Walla Walla, Benton, Franklin, and Columbia, WA, and Umatilla, OR. The four burials contained the remains of five adults and one child. No known individuals were identified. The accession also contains 26 associated funerary objects, consisting of: 3 envelopes with writing; 1 lot of small pieces of leather belt or harness; 1 lot of charcoal pieces; 3 metal bells; 1 pipe stem; 1 piece of iron; 1 envelope with no writing; 1 chert flake; 1 lot of animal teeth; 1 partially burnt fragment of wood; 1 corroded (non-human) fragment, substance and use unknown; 1 copper ring; 1 copper bell; 3 metal wheel gears; 1 lot of metal rings from a pipe stem; 1 lot of glass beads strung on cotton; 1 large animal tooth; and 3 copper bracelets.

In 1998, the human remains and associated funerary objects listed above were discovered in a large box in a storage closet in Memorial Hall, the main administrative building of Whitman College, and subsequently moved to Maxey Museum at Whitman College. Since the time of Maxey Museum's acquisition, the human remains and associated funerary objects were not removed from the box or intermingled with other collections, nor were the objects displayed. Envelopes found in the box read: “Robert Grant, Field Representative, Whitman College, Walla Walla.” Many of the associated funerary objects are personal items, and others are objects typical to cremation burials. All of the objects are typical funerary objects found on the Columbia River Plateau.

Although minimal provenance information exists for these objects, Whitman College was involved with many excavations along the Columbia River from Plymouth, WA, to Richland, WA, and along the Snake River in the first half of the 20th century, as well as receiving donated remains and funerary objects from inadvertent discoveries in the area. Through consultation with The Tribes and The Indian Group and an assessment of the objects as representative funerary objects commonly found in Columbia River Plateau burials, it is asserted that this collection of associated funerary objects belongs to the human remains in the box.

Based on traditional lifeways, past and present, The Tribes and The Indian Group are direct descendant communities of the native people that jointly used the lower Snake and Columbia rivers. As aboriginal lifeways were being extinguished by Euro-American settlement of the Pacific Northwest, treaties were negotiated and signed with the native communities during the expansion of Washington and Oregon territories. The native peoples in these territories were removed from the shores of the Columbia and Snake rivers to the Colville, Umatilla, Warm Springs, Yakama and Nez Perce reservations. The Wanapum Band was removed from the rivers as well but was not put on a reservation of their own. Cultural affiliation is further reinforced by living, enrolled members of The Tribes and The Indian Group that have documented ancestors buried along the lower Snake and Columbia rivers.

Determinations Made by Maxey Museum

Officials of Maxey Museum have determined that:

• Pursuant to 25 U.S.C. 3001(9), the human remains described in this notice represent the physical remains of six individuals of Native American ancestry.

• Pursuant to 25 U.S.C. 3001(3)(A), the 26 associated funerary objects described above are reasonably believed to have been placed with or near individual human remains at the time of death or later as part of the death rite or ceremony.

• Pursuant to 25 U.S.C. 3001(2), there is a relationship of shared group identity that can be reasonably traced between the Native American human remains and associated funerary objects to The Tribes and The Indian Group.

Additional Requestors and Disposition

Representatives of any Indian tribe that believes itself to be culturally affiliated with the human remains and associated funerary objects should contact Gary Rollefson, Maxey Museum, Whitman College, Walla Walla, WA 99362, telephone (509) 527-4938, before April 6, 2012. Repatriation of the human remains and associated funerary objects to The Tribes and The Indian Group may proceed after that date if no additional claimants come forward.

Maxey Museum is responsible for notifying The Tribes and The Indian Group that this notice has been published.

Dated: March 2, 2012.
Sherry Hutt,
Manager, National NAGPRA Program.

[FR Doc. 2012-5577 Filed 3-6-12; 8:45 am]

BILLING CODE 4310-50-P